DEPARTMENT OF ENERGY

Federal Energy Regulatory Commission

[Docket No. IC18-9-000]

Commission Information Collection Activities (Ferc-725x); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725X (Mandatory Reliability Standards: Voltage and Reactive (VAR) Standards).

DATES: Comments on the collection of information are due April 9, 2018.

ADDRESSES: You may submit comments (identified by Docket No. IC18-9-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-725X, Mandatory Reliability Standards: Voltage and Reactive (VAR) Standards.

OMB Control No.: 1902-0278.

Type of Request: Three-year extension of the FERC-725X information collection requirements with no changes to the current reporting requirements.

Abstract: Pursuant to Section 215 of the Federal Power Act (FPA), NERC established the Voltage and Reactive (“VAR”) group of Reliability Standards, which consists of two continent-wide Reliability Standards, VAR-001-4 and VAR-002-3. These two standards were designed to maintain voltage stability on the Bulk-Power System, protect transmission, generation, distribution, and customer equipment, and support the reliable operation of the Bulk-Power System. Voltage stability is the ability of a power system to maintain acceptable voltage levels throughout the system under normal operating conditions and following a disturbance. Failure to maintain acceptable voltage levels (i.e., voltage levels become too high or too low) may cause violations of System Operating Limits (“SOLs”) and Interconnection Reliability Operating Limits (“IROLs”), result in damage to Bulk-Power System equipment, and thereby threaten the reliable operation of the Bulk-Power System.

Reliability Standard VAR-001-4 ¹

¹ Applies to transmission operators only.

• Specify a system-wide voltage schedule (which is either a range or a target value with an associated tolerance band) as part of its plan to operate within SOLs and IROLs, and to provide the voltage schedule to its Reliability Coordinator and adjacent Transmission Operators upon request (Requirement R1);

• Schedule sufficient reactive resources to regulate voltage levels (Requirement R2);

• Operate or direct the operation of devices to regulate transmission voltage and reactive flows (Requirement R3);

• Develop a set of criteria to exempt generators from certain requirements under Reliability Standard VAR-002-3 related to voltage or Reactive Power schedules, automatic voltage regulations, and notification (Requirement R4);

• Specify a voltage or Reactive Power schedule (which is either a range or a target value with an associated tolerance band) for generators at either the high or low voltage side of the generator step-up transformer, provide the schedule to the associated Generator Operator, direct the Generator Operator to comply with that schedule in automatic voltage control mode, provide the Generator Operator the notification requirements for deviating from the schedule, and, if requested, provide the Generator Operator the criteria used to develop the schedule (Requirement R5); and

• Communicate step-up transformer tap changes, the time frame for completion, and the justification for these changes to Generator Owners (Requirement R6).

Reliability Standard VAR-002-3 ²

² Applies to transmission operators only.

• Operate each of its generators connected to the interconnected transmission system in automatic voltage control mode or in a different control mode as instructed by the Transmission Operator, unless the Generator Operator (1) is exempted pursuant to the criteria developed under VAR-001-4, Requirement R4, or (2) makes certain notifications to the Transmission Operator specifying the reasons it cannot so operate (Requirement R1);

• Maintain the Transmission Operator's generator voltage or Reactive Power schedule, unless the Generator Operator (1) is exempted pursuant to the criteria developed under VAR-001-4, Requirement R4, or (2) complies with the notification requirements for deviations as established by the Transmission Owner pursuant to VAR-001-4, Requirement R5 (Requirement R2);

• Notify the Transmission Operator of a change in status of its voltage controlling device within 30 minutes, unless the status is restored within that time period (Requirement R3); and

• Notify the Transmission Operator of a change in reactive capability due to factors other than those described in VAR-002-3, Requirement R3 within 30 minutes unless the capability has been restored during that time period (Requirement R4).

• Provide information on its step-up transformers and auxiliary transformers within 30 days of a request from the Transmission Operator or Transmission Planner (Requirement R5); and

• Comply with the Transmission Operator's step-up transformer tap change directives unless compliance would violate safety, an equipment rating, or applicable laws, rules or regulations (Requirement R6).

Type of Respondents: Generator owners and transmission operators.

Estimate of Annual Burden ³: The Commission estimates the annual public reporting burden for the information collection as:

³ The Commission defines burden as the total time, effort, or financial resources expended by persons to generate, maintain, retain, or disclose or provide information to or for a Federal agency. For further explanation of what is included in the information collection burden, reference 5 Code of Federal Regulations 1320.3.

FERC-725X, Mandatory Reliability Standards: Voltage and Reactive (VAR) Standards
| Number of respondents ⁴ | Annual number of responses per respondent | Total number of responses | Average burden and cost per response ⁵ | Total annual burden hours and total annual cost | Cost per respondent ($)
| (1) | (2) | (1) * (2) = (3) | (4) | (3) * (4) = (5) | (5) ÷ (1)
VAR-001-4 (Requirement R1) | 181 (TOP) | 1 | 181 | 160 hrs.; $10,899.20 | 28,960 hrs.; $1,972,755 | $10,899.20
VAR-002-3 (Requirement R1) | 944 (GOP) | 1 | 944 | 80 hrs.; 5,449.60 | 75,520 hrs.; 5,144,422 | 5,449.60
VAR-002-3 (Requirement R2) | 944 (GOP) | 1 | 944 | 120 hrs.; 8,174.40 | 113,280 hrs.; 7,716,634 | 8,174.40
Total |  | 1,932 |  | 217,760 hrs.; 14,833,811 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ TOP = transmission operator; GOP = generator operators.

⁵ The estimate for hourly cost is $68.12/hour. This figure is the average salary plus benefits for an electrical engineer (Occupation Code: 17-2071) from the Bureau of Labor Statistics at https://www.bls.gov/oes/current/naics2_22.htm.

Dated: February 1, 2018.
Kimberly D. Bose,
Secretary.

[FR Doc. 2018-02408 Filed 2-6-18; 8:45 am]

BILLING CODE 6717-01-P